DEPARTMENT OF ENERGY

Federal Energy Regulatory Commission

[Docket No. CP09-43-000]

Heavenly Valley, L.P.; Notice of Intent To Prepare an Environmental Assessment for the Proposed Powderbowl Pipeline Project and Request for Comments on Environmental Issues

January 28, 2009.

The staff of the Federal Energy Regulatory Commission (FERC or Commission) will prepare an environmental assessment (EA) that will discuss the potential environmental impacts of a pipeline project proposed by Heavenly Valley, L.P. (Heavenly Valley). The Powderbowl Pipeline Project involves the construction of a 1.86-mile-long, 4-inch-diameter natural gas pipeline in Douglas County, Nevada and El Dorado County, California. The EA will be used by the Commission in its decision-making process to determine whether the project is in the public convenience and necessity.

This notice announces the opening of the scoping process the Commission will use to gather input from the public and interested agencies on the project. Your input will help determine which issues need to be evaluated in the EA. Please note that the scoping period will close on February 27, 2009. Details on how to submit comments are provided in the “Public Participation” section of this notice.

This notice is being sent to affected landowners; federal, state, and local government representatives and agencies; elected officials; Native American tribes; other interested parties; and local libraries and newspapers. State and local government representatives are asked to notify their constituents of this proposed project and to encourage them to comment on their areas of concern. We anticipate that the U.S. Forest Service (USFS) will participate as a cooperating agency in the preparation of the EA.

A fact sheet prepared by the FERC entitled “An Interstate Natural Gas Facility On My Land? What Do I Need To Know?” addresses a number of typically-asked questions and how to participate in the Commission's proceedings. It is available for viewing on the FERC Internet Web site (http://www.ferc.gov).

Summary of the Proposed Project

Heavenly Valley proposes to construct 1.86 miles of 4-inch-diameter natural gas pipeline to service the future Powderbowl Lodge (planned for construction in 2009). The pipeline would begin at an existing Southwest Gas Corporation meter station in Douglas County, Nevada and terminate approximately 1.86 miles southwest at the Powderbowl Lodge site in El Dorado County, California. The pipeline would parallel an existing access road and utility corridor. Existing access roads would be used for pipeline construction. The project is located entirely within the Heavenly Mountain Ski Resort, on land owned by the USFS and leased to Heavenly Valley under a 40 year Ski Area Special Use Permit issued in 1997. Construction of the project would temporarily impact approximately 7.9 acres. Upon completion of the project, 2.3 acres would be maintained as permanent easement.

In addition, Heavenly Valley seeks approval to continue operation of a 4,500-foot-long, 2- and 3-inch diameter pipeline installed in 2000 by the previous resort owner to provide natural gas to resort facilities¹. This existing pipeline, referred to as the Gondala/Mid-Station Pipeline, is also located entirely within the Heavenly Valley property. No ground disturbance or new environmental impacts would occur from continued operation of this pipeline.

¹ Heavenly Valley stated that the prior resort owners believed the pipeline could be constructed as a “house” line or “plant” line not subject to FERC jurisdiction. Heavenly Valley was alerted to the fact that the existing pipeline may be subject to FERC jurisdiction when it initiated discussions with Southwest Gas to obtain increased service for the Powderbowl Pipeline.

A map showing the general location of the proposed project is included as appendix 1.²

² The appendix referenced in this notice is not being printed in the Federal Register. Copies of the appendix are available on the Commission's Web site at the “eLibrary” link or from the Commission's Public Reference Room, 888 First Street, NE., Washington, DC 20426, or by calling (202) 502-8371. For instructions on connecting to eLibrary, refer to the “Additional Information” section of this notice. Copies of the appendix were sent to all those receiving this notice in the mail. Requests for detailed maps of the proposed facilities should be made directly to Heavenly Valley.

The EA Process

The National Environmental Policy Act (NEPA) requires the Commission to take into account the environmental impacts that could result from an action whenever it considers the issuance of a Certificate of Public Convenience and Necessity. NEPA also requires us to discover and address concerns the public may have about proposals. This process is referred to as “scoping.” The main goal of the scoping process is to focus the analysis in the EA on the important environmental issues. By this Notice of Intent (NOI), the Commission staff requests public comments on the scope of the issues to address in the EA. All comments received will be considered during the preparation of the EA.

In the EA, we³ will discuss impacts that could occur as a result of the construction and operation of the proposed project under these general headings:

³ “We,” “us,” and “our” refer to the environmental staff of the FERC's Office of Energy Projects.

• Geology and soils;

• land use;

• cultural resources;

• vegetation and wildlife;

• air quality and noise;

• endangered and threatened species;

• public safety.

We will also evaluate possible alternatives to the proposed project or portions of the project, and make recommendations on how to lessen or avoid impacts on various resource areas.

Our independent analysis of the issues will be in the EA. Depending on the comments received during the scoping process, the EA may be published and mailed to federal, state, and local agencies; public interest groups; interested individuals; affected landowners; newspapers; libraries; and the Commission's official service list for this proceeding. A comment period will be allotted for the review if the EA is published. We will consider all comments on the EA before we make our recommendations to the Commission. To ensure your comments are considered, please carefully follow the instructions in the public participation section below.

Public Participation

You can make a difference by providing us with your specific comments or concerns about Heavenly Valley's Powderbowl Pipeline Project. Your comments should focus on the potential environmental effects of the proposal, reasonable alternatives, and measures to avoid or lessen the environmental impacts. The more specific your comments, the more useful they will be. To ensure that your comments are timely and properly recorded, please send in your comments so that they will be received in Washington, DC on or before February 27, 2009.

For your convenience, there are three methods which you can use to submit your comments to the Commission. In all instances please reference the project docket number (CP09-43-000) with your submission. The Commission encourages electronic filing of comments and has dedicated eFiling expert staff available to assist you at 202-502-8258 or eFiling@ferc.gov.

(1) You may file your comments electronically by using the Quick Comment feature, which is located on the Commission's Internet Web site at http://www.ferc.gov under the link to Documents and Filings. A Quick Comment is an easy method for interested persons to submit text-only comments on a project;

(2) You may file your comments electronically by using the eFiling feature, which is located on the Commission's Internet Web site at http://www.ferc.gov under the link to Documents and Filings. eFiling involves preparing your submission in the same manner as you would if filing on paper, and then saving the file on your computer's hard drive. You will attach that file as your submission. New eFiling users must first create an account by clicking on “Sign up” or “eRegister.” You will be asked to select the type of filing you are making. A comment on a particular project is considered a “Comment on a Filing;” or

(3) You may file your comments via mail by sending an original and two copies of your letter to: Kimberly D. Bose, Secretary, Federal Energy Regulatory Commission, 888 First Street, NE., Room 1A, Washington, DC 20426.

Label one copy of the comments for the attention of Gas Branch 1, PJ-11.1.

Becoming an Intervenor

In addition to involvement in the EA scoping process, you may want to become an “intervenor,” which is an official party to the proceeding. Intervenors play a more formal role in the process and are able to file briefs, appear at hearings, and be heard by the courts if they choose to appeal the Commission's final ruling. An intervenor formally participates in a Commission proceeding by filing a request to intervene. Instructions for becoming an intervenor are included in the User's Guide under the “e-Filing” link on the Commission's Web site.

Additional Information

Additional information about the project is available from the Commission's Office of External Affairs, at 1-866-208-FERC or on the FERC Internet Web site (http://www.ferc.gov) using the “eLibrary” link. Click on the eLibrary link, then on “General Search” and enter the docket number excluding the last three digits (i.e., CP09-43) in the Docket Number field. Be sure you have selected an appropriate date range. For assistance, please contact FERC Online Support at FercOnlineSupport@ferc.gov or toll free at 1-866-208-3676, or for TTY, contact (202) 502-8659. The eLibrary link also provides access to the texts of formal documents issued by the Commission, such as orders, notices, and rulemakings.

In addition, the Commission now offers a free service called eSubscription which allows you to keep track of all formal issuances and submittals in specific dockets. This can reduce the amount of time you spend researching proceedings by automatically providing you with notification of these filings, document summaries and direct links to the documents. Go to http://www.ferc.gov/esubscribenow.htm.

Finally, any public meetings or site visits will be posted on the Commission's calendar located at http://www.ferc.gov/EventCalendar/EventsList.aspx along with other related information.

Kimberly D. Bose,
Secretary.

[FR Doc. E9-2290 Filed 2-3-09; 8:45 am]

BILLING CODE 6717-01-P